ENVIRONMENTAL PROTECTION AGENCY

[PB-402404-CN; FRL-6811-5]

Lead; Requirements for Lead-Based Paint Activities in Target Housing and Child-Occupied Facilities; Authorization of the Cherokee Nation's Lead-Based Paint Activities Program

AGENCY: Environmental Protection Agency (EPA).

ACTION: Notice; final approval.

SUMMARY: On November 19, 1999, the Cherokee Nation of Oklahoma submitted an application for EPA approval to administer and enforce training and certification requirements, training program accreditation requirements, and work practice standards for lead-based paint activities in target housing and child-occupied facilities under section 402 of the Toxic Substances Control Act (TSCA). Notice of the receipt of the Cherokee Nation's application, a solicitation for public comment regarding the application, and background information supporting the application were published in the Federal Register of January 25, 2000. Today's notice announces the approval of the Cherokee Nation's application, and authorization of the Cherokee Nation's lead-based paint program for Cherokee Nation's Tribal Trust Lands in Oklahoma, effective October 15, 2001, in lieu of the corresponding Federal program under section 402 of TSCA.

DATES: Lead-based paint activities program authorization was granted to the Cherokee Nation effective on October 15, 2001.

FOR FURTHER INFORMATION CONTACT: Jeffrey Robinson, Regional Lead Coordinator, Environmental Protection Agency, Region VI, 6PD-T, 1445 Ross Avenue, Suite 1200, Dallas, TX 75202-2733. Telephone: 214-665-7577, e-mail address: robinson.jeffrey@epamail.epa.gov.

SUPPLEMENTARY INFORMATION:

I. Background

Pursuant to Title IV of TSCA, Lead Exposure Reduction, 15 U.S.C. 2681-2692, and regulations promulgated thereunder, States and Tribes that choose to apply for lead-based paint activities program authorization must submit a complete application to the appropriate Regional EPA office for review. Complete, final applications will be subject to a public comment period, and reviewed by EPA within 180 days subject to a public comment period, and reviewed by EPA within 180 days of receipt. To receive EPA approval, a State or Tribe must demonstrate that its program is at least as protective of human health and the environment as the Federal program, and provides for adequate enforcement, section 404(b) of TSCA. As determined by EPA's review and assessment, the Cherokee Nation's application successfully demonstrated that the Tribes' lead-based paint activities programs achieve the protectiveness and enforcement criteria, as required for Federal authorization. Furthermore, no public comments were received regarding any aspect of the Cherokee Nations' application. EPA announced solicitation for public comment regarding the application in the Federal Register of January 25, 2000 (65 FR 3960) (FRL-6490-1).

II. Federal Overfiling

TSCA section 404(b), 15 U.S.C. 2684(b), makes it unlawful for any person to violate, or fail or refuse to comply with, any requirement of an approved State or Tribal program. Therefore, EPA reserves the right to exercise its enforcement authority under TSCA against a violation of, or a failure or refusal to comply with, any requirement of an authorized State or Tribal program.

III. Withdrawal of Authorization

Pursuant to TSCA section 404(c), 15 U.S.C. 2684(c), the Administrator may withdraw a State or Tribal lead-based paint activities program authorization, after notice and opportunity for corrective action, if the program is not being administered or enforced in compliance with standards, regulations, and other requirements established under the authorization. The procedures EPA will follow for the withdrawal of an authorization are found at 40 CFR 745.324(i).

IV. Submission to Congress and the Comptroller General

The Congressional Review Act, 5 U.S.C. 801 et seq., as added by the Small Business Regulatory Enforcement Fairness Act of 1996, generally provides that before certain actions may take effect, the agency promulgating the action must submit a report, which includes a copy of the action, to each House of the Congress and to the Comptroller General of the United States. EPA will submit a report containing this action and other required information to the U.S. Senate, the U.S. House of Representatives, and the Comptroller General of the United States prior to publication of this document in the Federal Register. This action is not a “major rule” as defined by 5 U.S.C. 804(2).

List of Subjects

Environmental protection, Hazardous substances, Lead, Reporting and recordkeeping requirements.

Dated: November 28, 2001.
Carl L. Edlund,
Division Director, Multimedia Planning and Permitting, Region VI.

[FR Doc. 02-226 Filed 1-3-02 8:45 am]

BILLING CODE 6560-50-S